DEPARTMENT OF TRANSPORTATION

Federal Aviation Administration

[Summary Notice No. PE-2000-16]

Petitions for Waiver; Summary of Petitions Received; Dispositions of Petitions Issued

AGENCY: Federal Aviation Administration (FAA), DOT.

ACTION: Notice of petitions for waivers received and of dispositions of prior petitions.

SUMMARY: This notice contains the summary of a petition requesting a waiver from the interim compliance date required of 14 CFR part 91, § 91.867. Requesting a waiver is allowed through § 91.871. The purpose of this notice is to improve the public's awareness of, and participation in, this aspect of FAA's regulatory activities. Neither publication of this notice nor the inclusion or omission of information in the summary is intended to affect the legal status of any petition or its final disposition.

DATES: Comments on petitions received must identify the petition docket number involved and must be received on or before May 25, 2000.

ADDRESSES: Send comments on any petition in triplicate to: Federal Aviation Administration, Office of the Chief Counsel, Attn: Rule Docket (AGC-200), Petition Docket No. 28680, 800 Independence Avenue, SW., Washington, D.C. 20591.

The petition, any comments received, and a copy of any final disposition are filed in the assigned regulatory docket and are available for examination in the Rules Docket (AGC-200), Room 915G, FAA Headquarters Building (FOB 10A), 800 Independence Avenue, SW., Washington, D.C. 20591; telephone (202) 267-3132.

FOR FURTHER INFORMATION CONTACT: Angela Anderson (202) 267-9681 Office of Rulemaking (ARM-1), Federal Aviation Administration, 800 Independence Avenue, SW., Washington, DC 20591.

This notice is published pursuant to paragraphs (c), (e), and (g) of § 11.27 of Part 11 of the Federal Aviation Regulations (14 CFR Part 11).

Dated: Issued in Washington, D.C., on May 5, 2000.
Donald P. Byrne,
Assistant Chief Counsel for Regulations.

Petition for Waiver

Docket No.: 30028.

Petitioner: Aeroflot Russian International Airlines.

Sections of the FAR Affected: 14 CFR 91.873.

The Wendell H. Ford Aviation Investment and Reform Act for the 21st Century, P.L. 106-181 amended the Airport Noise and Capacity Act of 1990, 49 U.S.C. § 47528(b), to allow foreign air carriers, for a limited time, to apply for a waiver from the Stage 3 aircraft requirement of 49 U.S.C. 47528(a).

Description of Relief Sought: To permit Aeroflot to operate two Stage 2 IL-62 and one Stage 2 IL-76(F) aircraft pending the replacement of those aircraft with Stage 3 aircraft to resume the air transportation between Seattle and Khabarovsk.

[FR Doc. 00-11711 Filed 5-09-00; 8:45 am]

BILLING CODE 4910-13-M